FEDERAL ELECTION COMMISSION

11 CFR Part 1

Privacy Act

CFR Correction

In Title 11 of the Code of Federal Regulations, revised as of January 1, 2012, on page 5, in § 1.2, the words “95 and 96 of the Internal Revenue Code of 1954.” are added at the end of the definition of Act.

[FR Doc. 2013-18535 Filed 7-30-13; 8:45 am]

BILLING CODE 1505-01-D